DEPARTMENT OF ENERGY

Federal Energy Regulatory Commission

Combined Notice of Filings #1

December 29, 2008.

Take notice that the Commission received the following electric corporate filings:

Docket Numbers: EC09-33-000.

Applicants: Willow Creek Hydro LLC; Sheldon Energy LLC.

Description: Willow Creek Energy LLC and Sheldon Energy LLC submits an application for authorization of transactions that will result in an upstream change in ownership.

Filed Date: 12/19/2008.

Accession Number: 20081223-0252.

Comment Date: 5 p.m. Eastern Time on Friday, January 09, 2009.

Docket Numbers: EC09-34-000.

Applicants: SOWEGA Power LLC.

Description: SOWEGA Power LLC submits an application for authorization under Section 203 of the Federal Power Act for disposition of jurisdictional facilities and request for expedited action.

Filed Date: 12/22/2008.

Accession Number: 20081224-0092.

Comment Date: 5 p.m. Eastern Time on Monday, January 12, 2009.

Take notice that the Commission received the following electric rate filings:

Docket Numbers: ER96-2734-007.

Applicants: Southern Indiana Gas & Electric Company.

Description: Southern Indiana Gas and Electric Company et al. request renewal of its market-based rate authority.

Filed Date: 12/22/2008.

Accession Number: 20081224-0103.

Comment Date: 5 p.m. Eastern Time on Monday, January 12, 2009.

Docket Numbers: ER98-411-001.

Applicants: Wolverine Power Supply Cooperative, Inc.

Description: Market Power Update of Wolverine Power Supply Cooperative, Inc.

Filed Date: 12/23/2008.

Accession Number: 20081223-5088.

Comment Date: 5 p.m. Eastern Time on Tuesday, January 13, 2009.

Docket Numbers: ER00-3614-010; ER01-1300-009.

Applicants: BP Energy Company; Whiting Clean Energy, Inc.

Description: BP Energy Company submits FERC revised pages of their market-based rate wholesale power sales tariff to conform them with FERC's standard tariff language governing the sale of ancillary services in the markets administered by MISO.

Filed Date: 12/19/2008.

Accession Number: 20081223-0247.

Comment Date: 5 p.m. Eastern Time on Friday, January 09, 2009.

Docket Numbers: ER00-3751-007; ER08-1236-003;

Applicants: ANP FUNDING I, LLC; IPA Trading, LLC;

Description: IPA Entities submits an application for funding of Category 1 seller status in the Southeast, SPP, Southwest and Northwest Regions.

Filed Date: 12/22/2008.

Accession Number: 20081224-0102.

Comment Date: 5 p.m. Eastern Time on Monday, January 12, 2009.

Docket Numbers: ER01-205-032; ER98-2640-030; ER98-4590-027; ER99-1610-035.

Applicants: Xcel Energy Services Inc.; Northern States Power Company; Public Service Company of Colorado; Southwestern Public Service Company.

Description: Xcel Energy Operating Companies submits Attachment A an Updated Appendix.

Filed Date: 12/19/2008.

Accession Number: 20081223-0246.

Comment Date: 5 p.m. Eastern Time on Friday, January 09, 2009.

Docket Numbers: ER03-345-012.

Applicants: New England Power Pool Participants Comm.

Description: ISO New England submits semi-annual report on Load Response Programs.

Filed Date: 12/19/2008.

Accession Number: 20081223-0236.

Comment Date: 5 p.m. Eastern Time on Friday, January 09, 2009.

Docket Numbers: ER06-758-006; ER06-759-005.

Applicants: Selkirk Cogen Partners, L.P.; Chambers Cogeneration, Limited Partnership.

Description: Notice of Non-Material Change in Status of Chambers Cogeneration Limited Partnership et al.

Filed Date: 12/22/2008.

Accession Number: 20081222-5169.

Comment Date: 5 p.m. Eastern Time on Monday, January 12, 2009.

Docket Numbers: ER07-476-003.

Applicants: ISO New England Inc.

Description: ISO New England Inc et al. submits transmittal letter and proposed amendments to the ISO Tariff in compliance with the Commission's 10/16/08 order in the proceeding.

Filed Date: 12/22/2008.

Accession Number: 20081224-0099.

Comment Date: 5 p.m. Eastern Time on Monday, January 12, 2009.

Docket Numbers: ER07-521-007.

Applicants: New York Independent System Operator, In.

Description: New York Independent System Operator, Inc submits compliance filing.

Filed Date: 12/22/2008.

Accession Number: 20081224-0100.

Comment Date: 5.p.m. Eastern Time on Monday, January 12, 2009.

Docket Numbers: ER08-100-007; ER07-1215-007; ER07-265-008.

Applicants: Sempra Energy Trading, LLC, Sempra Energy Solutions LLC, The Royal Bank of Scotland plc.

Description: Sempra Energy Trading LLC et al. submits a notice of non-material change in status.

Filed Date: 12/19/2008.

Accession Number: 20081223-0231.

Comment Date: 5 p.m. Eastern Time on Friday, January 09, 2009.

Docket Numbers: ER08-209-001.

Applicants: Midwest Independent Transmission System.

Description: Midwest Independent System Operator, Inc submits a revised unexecuted Large Generator Interconnection Agreement among itself, Prairie State Generating Company, LLC et al. as acting agent for Illinois Power Company et al.

Filed Date: 12/22/2008.

Accession Number: 20081224-0091.

Comment Date: 5 p.m. Eastern Time on Monday, January 12, 2009.

Docket Numbers: ER08-394-018.

Applicants: Midwest Independent Transmission System Operator, Inc.

Description: Midwest Independent Transmission System Operator, Inc reports that they make the compliance filing to comply with the Commission's 60-day compliance directives in the Rehearing Order.

Filed Date: 12/19/2008.

Accession Number: 20081223-0239.

Comment Date: 5 p.m. Eastern Time on Friday, January 09, 2009.

Docket Numbers: ER08-1328-001.

Applicants: New England Participating Transmission.

Description: New England Participating Transmission Owners submits supporting materials to supplement its 7/31/08 informational filing.

Filed Date: 12/19/2008.

Accession Number: 20081223-0240.

Comment Date: 5 p.m. Eastern Time on Friday, January 09, 2009.

Docket Numbers: ER09-339-001.

Applicants: Crystal Lake Wind, LLC.

Description: Crystal Lake Wind, LLC submits amended and restated service agreement.

Filed Date: 12/19/2008.

Accession Number: 20081223-0237.

Comment Date: 5 p.m. Eastern Time on Friday, January 09, 2009.

Docket Numbers: ER09-393-001.

Applicants: West Oaks Energy, LLC.

Description: West Oaks Energy, LLC submits a revised application for Market-Based Rate Authority, filed on 12/10/08.

Filed Date: 12/23/2008.

Accession Number: 20081229-0115.

Comment Date: 5 p.m. Eastern Time on Tuesday, January 13, 2009.

Docket Numbers: ER09-432-000.

Applicants: Chinook Power Transmission, LLC.

Description: Chinook Power Transmission, LLC submits an application for authority to sell transmission rights at negotiated rates.

Filed Date: 12/19/2008.

Accession Number: 20081223-0163.

Comment Date: 5 p.m. Eastern Time on Friday, January 09, 2009.

Docket Numbers: ER09-433-000.

Applicants: Zephyr Power Transmission, LLC.

Description: Zephyr Power Transmission, LLC submits an application for authority to sell transmission rights at negotiated rates.

Filed Date: 12/19/2008.

Accession Number: 20081223-0162.

Comment Date: 5 p.m. Eastern Time on Friday, January 09, 2009.

Docket Numbers: ER09-434-000.

Applicants: Pittsfield Generating Company, L.P.

Description: Pittsfield Generating Co, LP submits its proposed revisions to its cost of service Reliability Must-Run Agreement.

Filed Date: 12/19/2008.

Accession Number: 20081223-0161.

Comment Date: 5 p.m. Eastern Time on Friday, January 09, 2009.

Docket Numbers: ER09-435-000.

Applicants: Entergy Services, Inc.

Description: Entergy Operating Companies submits an executed Second Revised Network Integration Transmission Service Agreement etc.

Filed Date: 12/19/2008.

Accession Number: 20081223-0160.

Comment Date: 5 p.m. Eastern Time on Friday, January 09, 2009.

Docket Numbers: ER09-436-000.

Applicants: Southern California Edison Company.

Description: Southern California Edison submits a Small Generator Interconnection Agreement.

Filed Date: 12/19/2008.

Accession Number: 20081223-0159.

Comment Date: 5 p.m. Eastern Time on Friday, January 09, 2009.

Docket Numbers: ER09-437-000.

Applicants: New York State Reliability Council, L.L.

Description: New York State Reliability Council, L.L.C.'s revised Installed Capacity Requirement for the New York Control Area.

Filed Date: 12/19/2008.

Accession Number: 20081219-5156.

Comment Date: 5 p.m. Eastern Time on Friday, January 09, 2009.

Docket Numbers: ER09-439-000.

Applicants: Southwest Power Pool, Inc.

Description: Southwest Power Pool submits a partially executed Service Agreement for Network Integration Transmission Service etc.

Filed Date: 12/22/2008.

Accession Number: 20081223-0233.

Comment Date: 5 p.m. Eastern Time on Monday, January 12, 2009.

Docket Numbers: ER09-441-000.

Applicants: Southwest Power Pool, Inc.

Description: Southwest Power Pool submits an executed Service Agreement for Network Integration Transmission Service etc.

Filed Date: 12/22/2008.

Accession Number: 20081223-0234.

Comment Date: 5 p.m. Eastern Time on Monday, January 12, 2009.

Docket Numbers: ER09-442-000.

Applicants: Southwest Power Pool, Inc.

Description: Southwest Power Pool, Inc submits an executed Large Generator Interconnection Agreement between SPP as Transmission Provider, et al. as Interconnection Customer.

Filed Date: 12/22/2008.

Accession Number: 20081229-0117.

Comment Date: 5 p.m. Eastern Time on Monday, January 12, 2009

Docket Numbers: ER09-443-000.

Applicants: Southwest Power Pool, Inc.

Description: Southwest Power Pool, Inc request for Waiver of Tariff Provision and Expedited Treatment.

Filed Date: 12/22/2008.

Accession Number: 20081229-0118.

Comment Date: 5 p.m. Eastern Time on Monday, January 12, 2009.

Docket Numbers: ER09-444-000.

Applicants: Southwest Power Pool, Inc.

Description: Southwest Power Pool, Inc submits revisions to its Open Access Transmission tariff in order to adopt changes to its Credit Policy.

Filed Date: 12/22/2008.

Accession Number: 20081229-0116.

Comment Date: 5 p.m. Eastern Time on Monday, January 12, 2009.

Docket Numbers: ER09-445-000.

Applicants: Southern Company Services, Inc.

Description: Alabama Power Company et al. submits the transmittal letter and the Interconnection Agreement between Live Oaks Company, LLC and Southern Companies.

Filed Date: 12/22/2008.

Accession Number: 20081224-0098.

Comment Date: 5 p.m. Eastern Time on Monday, January 12, 2009.

Docket Numbers: ER09-447-000.

Applicants: PJM Interconnection, LLC.

Description: PJM Interconnection, LLC submits notice of the cancellation of an interconnection service agreement between PJM and Susquehanna Electric Company designated as Original Service Agreement 798.

Filed Date: 12/22/2008.

Accession Number: 20081224-0097.

Comment Date: 5 p.m. Eastern Time on Monday, January 12, 2009.

Docket Numbers: ER09-448-000.

Applicants: Entergy Services, Inc.

Description: Entergy Services, Inc submits transmittal letter and a mutually-executed Dynamic Transfer Operating Agreement etc.

Filed Date: 12/22/2008.

Accession Number: 20081224-0096.

Comment Date: 5 p.m. Eastern Time on Monday, January 12, 2009.

Docket Numbers: ER09-449-000.

Applicants: Entergy Services, Inc.

Description: Entergy Services, LP submits transmittal letter with Attachments A & B.

Filed Date: 12/22/2008.

Accession Number: 20081224-0095.

Comment Date: 5 p.m. Eastern Time on Monday, January 12, 2009.

Docket Numbers: ER09-450-000.

Applicants: Kansas City Power & Light Company.

Description: Kansas City Power & Light submits amended Service Schedule A-EID and new Service Schedule C-EID, both of which are to be service schedules under KCP&L provides electric interconnection and delivery services to KEPCO etc.

Filed Date: 12/22/2008.

Accession Number: 20081224-0094.

Comment Date: 5 p.m. Eastern Time on Monday, January 12, 2009.

Docket Numbers: ER09-453-000.

Applicants: Deseret Generation & Trans Co-Oper., Inc.

Description: Deseret Generation & Transmission Co-operative, Inc submits an amendment to its service agreement for wholesale requirements service to one of its members, Dixie-Escalante Rural Electric Association, Inc.

Filed Date: 12/23/2008.

Accession Number: 20081229-0114.

Comment Date: 5 p.m. Eastern Time on Tuesday, January 13, 2009.

Docket Numbers: ER09-454-000.

Applicants: ISO New England Inc. & New England Power.

Description: ISO New England Inc et al. submits amendments to the ISO Financial Assurance Policy for Market Participants that is Exhibit 1A to Section I of the ISO Tariff and to the ISO Billing Policy that is Exhibit 1D to Section I of the ISO Tariff etc.

Filed Date: 12/23/2008.

Accession Number: 20081229-0113.

Comment Date: 5 p.m. Eastern Time on Tuesday, January 13, 2009.

Docket Numbers: ER09-456-000.

Applicants: PJM Interconnection, L.L.C.

Description: PJM Interconnection, LLC submits notice of the cancellation of an interim interconnection service agreement between PJM and American Electric Power Service Corporation as agent for the operating companies of the AEPSC etc.

Filed Date: 12/22/2008.

Accession Number: 20081229-0112.

Comment Date: 5 p.m. Eastern Time on Monday, January 12, 2009.

Docket Numbers: ER09-457-000.

Applicants: Midwest Independent System Transmission.

Description: Midwest Independent System Operator, Inc submit proposed revisions to its Open Access Transmission, Energy and Operating Reserve Markets Tariff.

Filed Date: 12/22/2008.

Accession Number: 20081229-0111.

Comment Date: 5 p.m. Eastern Time on Monday, January 12, 2009.

Docket Numbers: ER09-459-000.

Applicants: American Transmission Systems, Incorporated.

Description: American Transmission System, Incorporated submits Wholesale Distribution Service Agreement between ATSI as agent for Pennsylvania Power Company and the Borough if Wampum, PA.

Filed Date: 12/22/2008.

Accession Number: 20081229-0108.

Comment Date: 5 p.m. Eastern Time on Monday, January 12, 2009.

Docket Numbers: ER09-460-000.

Applicants: Arizona Public Service Company.

Description: Arizona Public Service Company submits proposed revisions to APS's FERC Electric Tariff, Volume 3 APS's Market Rate Tariff.

Filed Date: 12/22/2008.

Accession Number: 20081229-0109.

Comment Date: 5 p.m. Eastern Time on Monday, January 12, 2009.

Docket Numbers: ER09-466-000.

Applicants: New York Independent System Operator, Inc.

Description: New York Independent System Operator, Inc submits tariff revisions to its Market Administration and Control Area Services Tariff and its Open Access Transmission Tariff etc.

Filed Date: 12/23/2008.

Accession Number: 20081229-0102.

Comment Date: 5 p.m. Eastern Time on Tuesday, January 13, 2009.

Docket Numbers: ER09-469-000.

Applicants: Midwest Independent Transmission System.

Description: Midwest Independent Transmission System Operator, Inc et al. submit revisions to their Joint Operating Agreement and Congestion Management Process as part of the RTOs' 2008 initiative to update their JOA.

Filed Date: 12/19/2008.

Accession Number: 20081229-0099.

Comment Date: 5 p.m. Eastern Time on Friday, January 09, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E9-398 Filed 1-12-09; 8:45 am]

BILLING CODE 6717-01-P